DEPARTMENT OF TRANSPORTATION

Federal Aviation Administration

14 CFR Part 39

[Docket No. FAA-2010-0491; Directorate Identifier 2009-SW-64-AD; Amendment 39-16293; AD 2010-10-14]

RIN 2120-AA64

Airworthiness Directives; Eurocopter France Model AS332L2 Helicopters

AGENCY: Federal Aviation Administration (FAA), Department of Transportation (DOT).

ACTION: Final rule; request for comments.

SUMMARY: We are adopting a new airworthiness directive (AD) for Eurocopter France (Eurocopter) Model AS332L2 helicopters. This AD results from a mandatory continuing airworthiness information (MCAI) AD issued by the European Aviation Safety Agency (EASA), which is the Technical Agent for the Member States of the European Community. The MCAI AD states that the AD was issued after the discovery of broken swashplate bearing attaching screw heads. Failure of these screw heads could lead to the loss of the coupling between the non-rotating and the rotating swashplate. This AD is intended to prevent loss of power to the rotating swashplate and subsequent loss of control of the helicopter.

DATES: This AD becomes effective on June 7, 2010.

The Director of the Federal Register approved the incorporation by reference of Eurocopter Alert Service Bulletin No. 62.00.66, dated September 13, 2006, as of June 7, 2010.

We must receive comments on this AD by July 20, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the AD Docket: You may examine the AD docket on the Internet at http://www.regulations.gov, or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Gary Roach, Aviation Safety Engineer, FAA, Rotorcraft Directorate, Regulations and Guidance Group, Fort Worth, Texas 76193-0111, telephone (817) 222-5130, fax (817) 222-5961.

SUPPLEMENTARY INFORMATION:

Discussion

The EASA, which is the technical agent for the Member States of the European Community, has issued EASA AD No. 2006-0339, dated November 9, 2006, to correct an unsafe condition for the specified helicopters. The MCAI AD was issued after the discovery of broken swashplate bearing attaching screw heads. Failure of these screw heads could lead to the loss of the coupling between the non-rotating and the rotating swashplate. This AD is intended to prevent loss of power to the rotating swashplate and subsequent loss of control of the helicopter.

You may obtain further information by examining the MCAI AD in the AD docket.

Related Service Information

Eurocopter has issued Alert Service Bulletin No. 62.00.66, dated September 13, 2006. The actions described in the MCAI AD are intended to correct the same unsafe condition as that identified in the service information.

FAA's Evaluation and Unsafe Condition Determination

This helicopter has been approved by the aviation authority of France and is approved for operation in the United States. Pursuant to our bilateral agreement with France, EASA, their Technical Agent, has notified us of the unsafe condition described in the MCAI AD. We are issuing this AD because we evaluated all information provided by EASA and determined the unsafe condition exists and is likely to exist or develop on other helicopters of the same type design.

There are no helicopters of this type currently registered in the United States. However, this rule is necessary to ensure that the described unsafe condition is addressed if any of these helicopters are placed on the U.S. register in the future.

Differences Between This AD and the MCAI AD

• This AD does not require you to send the assembly to an “approved repair center for investigation and reconditioning.”

• This AD uses “hours time-in-service” instead of “flying hours.”

• This AD does not apply to non-installed parts.

• This AD does not include an inspection for masts that were inspected per a previous MCAI AD.

Costs of Compliance

There are no costs of compliance since there are no helicopters of this type design on the U.S. registry.

FAA's Determination of the Effective Date

Since there are currently no domestic operators of these helicopters, notice and opportunity for public comment before issuing this AD are unnecessary, and this amendment can be made effective in less than 30 days.

Comments Invited

This AD is a final rule that involves requirements affecting flight safety, and we did not precede it by notice and opportunity for public comment. We invite you to send any written relevant data, views, or arguments about this AD. Send your comments to an address listed under the ADDRESSES section. Include “Docket No. FAA-2010-0491; Directorate Identifier 2009-SW-64-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-10-14 Eurocopter France: Amendment 39-16293. Docket No. FAA-2010-0491; Directorate Identifier 2009-SW-64-AD.

Effective Date

(a) This airworthiness directive (AD) becomes effective June 7, 2010.

Other Affected ADs

(b) None.

Applicability

(c) This AD applies to Model AS332L2 helicopters, with a main rotor mast assembly (mast) that has not been modified per MOD 0743714, installed, certificated in any category.

Note 1: MOD 0743714 includes replacing the plastic peel shim with a stainless steel peel shim, installing improved swashplate bearing attachment screws, and increasing the torque on those screws.

Reason

(d) The mandatory continued airworthiness information (MCAI) AD was issued after the discovery of broken swashplate bearing attaching screw heads. Failure of these screw heads could lead to the loss of the coupling between the non-rotating and the rotating swashplate. This AD is intended to prevent loss of power to the rotating swashplate and subsequent loss of control of the helicopter.

Actions and Compliance

(e) For each mast that has less than 750 hours TIS since it was installed on any helicopter or since its last overhaul, within 20 hours time-in-service (TIS), unless already done, and thereafter at intervals not to exceed 25 hours TIS, and for each mast that has 750 or more hours TIS since it was installed on any helicopter or since its last overhaul, within 25 hours TIS, unless already done, and thereafter at intervals not to exceed 25 hours TIS:

(1) Inspect for the presence of each mast swashplate bearing attachment screw head by either using a mirror or by feeling for the screw heads under the flange. Do the inspections by following the Accomplishment Instructions, Operational Procedure, paragraphs 2.B.1. through 2.B.2. and Figure 1, of Eurocopter Alert Service Bulletin (ASB) No. 62.00.66, dated September 13, 2006, except this AD does not require you to send the assembly to an “approved repair center for investigation and reconditioning.”

(2) If an attachment screw head is missing, before further flight, replace the unairworthy mast with an airworthy mast.

Note 2: If you have complied with ASB No. 62.00.66, dated September 13, 2006, you have met the intent of this AD.

Differences Between the FAA AD and the MCAI AD

(f) This AD differs from the MCAI AD as follows:

(1) This AD does not require you to send the assembly to an “approved repair center for investigation and reconditioning.”

(2) This AD uses “hours TIS” instead of “flying hours.”

(3) This AD does not apply to non-installed parts.

(4) This AD does not include an inspection for masts that were inspected per a previous MCAI AD.

Other Information

(g) Alternative Methods of Compliance (AMOCs): The Manager, Safety Management Group, Rotorcraft Directorate, FAA, has the authority to approve AMOCs for this AD, if requested, using the procedures found in 14 CFR 39.19. Send AMOC request to DOT/FAA Southwest Region, Gary Roach, ASW-111, Aviation Safety Engineer, Rotorcraft Directorate, Regulations and Guidance Group, 2601 Meacham Blvd., Fort Worth, Texas 76137, telephone (817) 222-5130, fax (817) 222-5961.

Related Information

(h) Mandatory Continuing Airworthiness Information (MCAI) Airworthiness Directive No. 2006-0339, dated November 9, 2006, contains related information.

Joint Aircraft System/Component (JASC) Code

(i) The JASC Code is 6230—Main Rotor Mast/Swashplate.

Material Incorporated by Reference

(j) You must use the specified portions of Eurocopter Alert Service Bulletin No. 62.00.66, dated September 13, 2006, to do the actions required.

(1) The Director of the Federal Register approved the incorporation by reference of the service information under 5 U.S.C. 552(a) and 1 CFR part 51.

(2) For service information identified in this AD, contact American Eurocopter Corporation, 2701 Forum Drive, Grand Prairie, Texas 75053-4005, telephone (972) 641-3460, fax (972) 641-3527.

(3) You may review copies of the service information at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas, on May 4, 2010.
Mark R. Schilling,
Acting Manager, Rotorcraft Directorate, Aircraft Certification Service.

[FR Doc. 2010-11418 Filed 5-20-10; 8:45 am]

BILLING CODE 4910-13-P